DEPARTMENT OF COMMERCE

International Trade Administration

[A-523-808]

Certain Steel Nails From the Sultanate of Oman: Final Results of the First Five-Year Sunset Review of the Antidumping Duty Order

AGENCY: Enforcement and Compliance, International Trade Administration, Department of Commerce.

SUMMARY: On September 28, 2020, the Department of Commerce (Commerce) published the Preliminary Results of the first full five-year (sunset) review of the antidumping duty (AD) order on certain steel nails (steel nails) from the Sultanate of Oman (Oman). As a result of our analysis, Commerce finds that revocation of the AD order would be likely to lead to continuation or recurrence of dumping at the levels indicated in the “Final Results of Sunset Review” section of this notice.

DATES: Applicable January 28, 2021.

FOR FURTHER INFORMATION CONTACT: Ian Hamilton, AD/CVD Operations, Office II, Enforcement and Compliance, International Trade Administration, U.S. Department of Commerce, 1401 Constitution Avenue NW, Washington, DC 20230; telephone: (202) 482-4798.

SUPPLEMENTARY INFORMATION:

Background

On September 28, 2020, Commerce published the Preliminary Results,¹ finding that dumping was likely to continue or recur if the AD Order ² were revoked, and reported to the International Trade Commission (ITC) rates up to 9.10 percent as the margins of dumping likely to prevail.³ We invited interested parties to comment on the Preliminary Results. On October 28, 2020, we received a case brief from Oman Fasteners LLC (Oman Fasteners).⁴ On November 4, 2020, we received a rebuttal brief from Mid Continent Steel & Wire, Inc. (Mid Continent).⁵ On November 24, 2020, we held a hearing at Oman Fasteners' request.

¹ See Certain Steel Nails from the Sultanate of Oman: Preliminary Results of the First Five-Year Sunset Review of the Antidumping Duty Order, 85 FR 60761 (September 28, 2020) (Preliminary Results), and accompanying Preliminary Decision Memorandum.

² See Certain Steel Nails from the Republic of Korea, Malaysia, the Sultanate of Oman, Taiwan, and the Socialist Republic of Vietnam: Antidumping Duty Orders, 80 FR 39994 (July 13, 2015) (AD Order).

³ See Preliminary Results, 85 FR at 60762.

⁴ See Oman Fasteners' Letter, “Certain Steel Nails from Oman; 1st Sunset Review Oman Fasteners Case Brief,” dated October 28, 2020.

⁵ See Mid Continent's Letter, “Certain Steel Nails from Oman: Rebuttal Brief,” dated November 4, 2020.

Scope of the Order

The merchandise covered by this order is nails having a nominal shaft length not exceeding 12 inches.⁶ Merchandise covered by the order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to this order also may be classified under HTSUS subheadings 7907.00.60.00, 8206.00.00.00 or other HTSUS subheadings. While the HTSUS subheadings are provided for convenience and customs purposes, the written description of the scope of this order is dispositive.⁷

⁶ The shaft length of certain steel nails with flat heads or parallel shoulders under the head shall be measured from under the head or shoulder to the tip of the point. The shaft length of all other certain steel nails shall be measured overall.

⁷ For a complete description of the scope of the order, see Memorandum, “Issues and Decision Memorandum for Final Results of the First Sunset Review of Certain Steel Nails from the Sultanate of Oman,” dated concurrently with, and hereby adopted by, this notice (Issues and Decision Memorandum).

Analysis of Comments Received

All issues raised for the final results of this sunset review are addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/index.html. The signed and the electronic versions of the Issues and Decision Memorandum are identical in content. A list of topics included in the Issues and Decision Memorandum is provided as an Appendix to this notice.

Final Results of Sunset Review

We determine that revocation of the AD Order on steel nails from Oman would be likely to lead to continuation or recurrence of dumping at weighted average margins up to 9.10 percent.

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of this full sunset review in accordance with sections 751(c)(5)(A), 752(c), and 777(i) of the Tariff Act of 1930, as amended, and 19 CFR 351.218(f)(3).

Dated: January 22, 2021.
Christian Marsh,
Acting Assistant Secretary for Enforcement and Compliance.

Appendix

List of Topics Discussed in the Issues and Decision Memorandum:

1. Summary

2. Background

3. Scope of the Order

4. Discussion of the Issues

Comment 1: Whether the Department of Commerce (Commerce) Should Consider the Dumping Margin Calculated for a Defunct Company

Comment 2: Whether Commerce Should Consider the “All Others” Rate

Comment 3: Whether Commerce Should Consider the Effect of Section 232 Steel Tariffs on Import Volumes

5. Recommendation

[FR Doc. 2021-01910 Filed 1-27-21; 8:45 am]

BILLING CODE 3510-DS-P